DEPARTMENT OF HEALTH AND HUMAN SERVICES

Centers for Disease Control and Prevention

[Docket No. CDC-2023-0035]

Advisory Committee on Immunization Practices; Amended Notice of Meeting

AGENCY: Centers for Disease Control and Prevention, Department of Health and Human Services (HHS).

ACTION: Notice.

SUMMARY: The Centers for Disease Control and Prevention (CDC) announces an amendment to the following meeting of the Advisory Committee on Immunization Practices (ACIP). This meeting is open to the public.

FOR FURTHER INFORMATION CONTACT: Stephanie Thomas, Committee Management Specialist, Advisory Committee on Immunization Practices, National Center for Immunization and Respiratory Diseases, Centers for Disease Control and Prevention, 1600 Clifton Road NE, Mailstop H24-8, Atlanta, Georgia 30329-4027. Telephone: (404) 639-8836; Email: ACIP@cdc.gov.

SUPPLEMENTARY INFORMATION: Notice is hereby given of a change in the meeting of the Advisory Committee on Immunization Practices (ACIP); June 21, 2023, 8 a.m. to 5:15 p.m., EDT, June 22, 2023, 8 a.m. to 5 p.m., EDT, and June 23, 2023, 8 a.m. to 1 p.m., EDT (times subject to change, see the ACIP website for updates: http://www.cdc.gov/vaccines/acip/index.html), in the original Federal Register notice.

Notice of the virtual meeting was published in the Federal Register on Friday, May 5, 2023, Volume 88, Number 87, pages 29132-29133.

Notice of the virtual meeting is being amended to update the times in the dates section, the matters to be considered, and the procedure for oral public comment, which should read as follows:

Dates: The meeting will be held on June 21, 2023, 8 a.m. to 5:30 p.m., EDT, June 22, 2023, 8 a.m. to 5:30 p.m., EDT, and June 23, 2023, 8 a.m. to 2:40 p.m., EDT (times subject to change, see the ACIP website for updates: https://www.cdc.gov/vaccines/acip/index.html).

Written comments must be received between June 5-16, 2023.

Matters To Be Considered: The agenda will include discussions on mpox vaccines, influenza vaccines, pneumococcal vaccines, meningococcal vaccines, polio vaccine, respiratory syncytial virus vaccine pediatric/maternal, respiratory syncytial virus vaccine in adults, dengue vaccines, chikungunya vaccine, informational session by CDC Immunization Safety Office, and COVID-19 vaccines. Recommendation votes on influenza vaccines, pneumococcal vaccines, polio vaccines, and respiratory syncytial virus vaccine in adults are scheduled. Vaccines for Children votes on influenza and pneumococcal vaccines are scheduled. Agenda items are subject to change as priorities dictate. For more information on the meeting agenda, visit https://www.cdc.gov/vaccines/acip/meetings/index.html.

Procedure for Oral Public Comment: All persons interested in making an oral public comment on June 21 or June 22, 2023, at the ACIP meeting must submit a request at http://www.cdc.gov/vaccines/acip/meetings/index.html no later than 11:59 p.m., EDT, June 16, 2023, according to the instructions provided.

If the number of persons requesting to speak is greater than can be reasonably accommodated during the scheduled time, CDC will conduct a lottery to determine the speakers for the scheduled public comment session. CDC staff will notify individuals regarding their request to speak by email by June 20, 2023. To accommodate the significant interest in participation in the oral public comment session of ACIP meetings, each speaker will be limited to three minutes, and each speaker may only speak once per meeting.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

(Authority: 5 U.S.C. 1001 et seq.)

Kalwant Smagh,
Director, Strategic Business Initiatives Unit, Office of the Chief Operating Officer, Centers for Disease Control and Prevention.

[FR Doc. 2023-13547 Filed 6-26-23; 8:45 am]

BILLING CODE 4163-18-P